NUCLEAR REGULATORY COMMISSION

[NRC-2017-0001]

Sunshine Act Meeting Notice

DATE: Weeks of December 25, 2017, January 1, 8, 15, 22, 29, 2018.

PLACE: Commissioners' Conference Room, 11555 Rockville Pike, Rockville, Maryland.

STATUS: Public and Closed.

Week of December 25, 2017

There are no meetings scheduled for the week of December 25, 2017.

Week of January 1, 2018—Tentative

There are no meetings scheduled for the week of January 1, 2018.

Week of January 8, 2018—Tentative

There are no meetings scheduled for the week of January 8, 2018.

Week of January 15, 2018—Tentative

Thursday, January 18, 2018

9:00 a.m. Strategic Programmatic Overview of the Decommissioning and Low-Level Waste and Spent Fuel Storage and Transportation Business Lines (Public Meeting) (Contact: Damaris Marcano: 301-415-7328)

This meeting will be webcast live at the Web address— http://www.nrc.gov/.

Week of January 22, 2018—Tentative

Tuesday, January 23, 2018

9:00 a.m. Hearing on Construction Permit for Northwest Medical Isotopes Production Facility: Section 189a of the Atomic Energy Act Proceeding (Public Meeting) (Contact: Michael Balazik: 301-415-2856)

This meeting will be webcast live at the Web address— http://www.nrc.gov/.

Thursday, January 25, 2018

10:00 a.m. Strategic Programmatic Overview of the New Reactors Business Line (Public Meeting) (Contact: Donna Williams: 301-415-1322)

This meeting will be webcast live at the Web address— http://www.nrc.gov/.

Week of January 29, 2018—Tentative

There are no meetings scheduled for the week of January 29, 2018.

* * * * *

The schedule for Commission meetings is subject to change on short notice. For more information or to verify the status of meetings, contact Denise McGovern at 301-415-0681 or via email at Denise.McGovern@nrc.gov.

* * * * *

The NRC Commission Meeting Schedule can be found on the internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Patricia.Jimenez@nrc.gov or Jennifer.BorgesRoman@nrc.gov.

Dated: December 20, 2017.
Denise L. McGovern,
Policy Coordinator, Office of the Secretary.

[FR Doc. 2017-27844 Filed 12-21-17; 11:15 am]

BILLING CODE 7590-01-P